DEPARTMENT OF LABOR

Employment and Training Administration

[NAFTA-03730]

Timbergon, Redmond, Oregon; Notice of Termination of Investigation

Pursuant to Section 250 of the Trade Act of 1974, an investigation was initiated on February 17, 2000 on behalf of workers at Timbergon, Redmond, Oregon.

The petitioner requested that the petition be withdrawn. Consequently, further investigation in this case would serve no purpose, and the investigation has been terminated.

Signed in Washington, D.C. this 6th day of April 2000.
Grant D. Beale,
Program Manager, Division of Trade Adjustment Assistance.

[FR Doc. 00-9520 Filed 4-14-00; 8:45 am]

BILLING CODE 4510-30-M